COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: October 27, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

6515-00-NIB-0571—Glove, Exam, Powder-Free, Nitrile, Non-Latex, Textured, Midknight, Black, Small

6515-00-NIB-0572—Glove, Exam, Powder-Free, Nitrile, Non-Latex, Textured, Midknight, Black, Medium

6515-00-NIB-0573—Glove, Exam, Powder-Free, Nitrile, Non-Latex, Textured, Midknight, Black, Large

6515-00-NIB-0574—Glove, Exam, Powder-Free, Nitrile, Non-Latex, Textured, Midknight, Black, X-Large

Authorized Source of Supply: Central Association for the Blind and Visually Impaired, Utica, NY

Contracting Activity: DEPT OF JUST/FEDERAL BUREAU OF INVESTIGATION, WASHINGTON, DC

NSN(s)—Product Name(s):

8105-01-582-6877—M26 MASS Ammunition Magazine Pouch, ACU Camouflage

Authorized Source of Supply: LC Industries, Inc., Durham, NC

Contracting Activity: W6QK ACC-PICA, PICATINNY ARSENAL, NJ

NSN(s)—Product Name(s):

6530-01-321-5592—Table, Field Operating

Authorized Source of Supply: The Lighthouse for the Blind, Inc. (Seattle Lighthouse), Seattle, WA

Contracting Activity: DLA TROOP SUPPORT, PHILADELPHIA, PA

NSN(s)—Product Name(s):

7530-01-501-2688—Pad, Message, “While You Were Out”

Authorized Source of Supply: Blind Industries & Services of Maryland, Baltimore, MD

Contracting Activity: GSA/FAS ADMIN SVCS ACQUISITION BR(2, NEW YORK, NY

Service(s)

Service Type: Mess Attendant Service

Mandatory for: US Navy, JEBLCFS Galley 2, 864 Omaha Beach Road, Virginia Beach, VA

Authorized Source of Supply: Louise W. Eggleston Center, Inc., Norfolk, VA

Contracting Activity: DEPT OF THE NAVY, NAVSUP FLT LOG CTR NORFOLK

Service Type: Mess Attendant Service

Mandatory for: US Navy, JEBLCFS Galley 2, 864 Omaha Beach Road, Virginia Beach, VA

Authorized Source of Supply: Community Alternatives, Incorporated, Norfolk, VA

Contracting Activity: DEPT OF THE NAVY, NAVSUP FLT LOG CTR NORFOLK

Service Type: Mailroom Operation

Mandatory for: US Army, Customer Support Division, US Army Garrison Adelphi Laboratory Center, 2800 Powder Mill Road, Adelphi, MD

Authorized Source of Supply: WeAchieve, Inc., Silver Spring, MD

Contracting Activity: DEPT OF THE ARMY, W6QK ACC-APG ADELPHI

Service Type: Mailroom Operation

Mandatory for: US Army Corps of Engineers, Cold Regions Research and Engineering Laboratory (CRREL), 72 Lyme Road, Hanover, NH

Authorized Source of Supply: Northern New England Employment Services, Portland, ME

Contracting Activity: DEPT OF THE ARMY, W2R2 COLD RGNS RSCH ENG LAB

Service Type: Records Digitization

Mandatory for: Ohio Army Reserve National Guard Element, Joint Forces Headquarters, 3990 East Broad Street, Columbus, OH

Authorized Source of Supply: Coleman Professional Services, Kent, OH

Contracting Activity: DEPT OF THE ARMY, W7NU USPFO ACTIVITY OH ARNG

Service Type: Janitorial/Grounds Maintenance

Mandatory for: GSA PBS Region 3, Mount Hope Federal Building, 100 Bluestone Rd, Mount Hope, WV

Authorized Source of Supply: Integrated Resources, Inc., Maben, WV

Contracting Activity: PUBLIC BUILDINGS SERVICE, PBS R3

Michael R. Jurkowski,
Director, Business Operations.

[FR Doc. 2024-22208 Filed 9-26-24; 8:45 am]

BILLING CODE 6353-01-P